SOCIAL SECURITY ADMINISTRATION

20 CFR Part 401

[Docket No. SSA-2015-0003]

RIN 0960-AI08

Social Security Administration Violence Evaluation and Reporting System

AGENCY: Social Security Administration.

ACTION: Notice of proposed rulemaking.

SUMMARY: In today's Federal Register, the Social Security Administration (SSA) separately published, notice of a new system of records, Social Security Administration Violence Evaluation and Reporting System (SSAvers). Because this system will contain investigatory material compiled for law enforcement purposes, this proposed rule will exempt those records from specific provisions of the Privacy Act.

DATES: To ensure that your comments are considered, we must receive them no later than July 16, 2018.

ADDRESSES: You may submit comments by any one of three methods—internet, fax, or mail. Do not submit the same comments multiple times or by more than one method. Regardless of which method you choose, please state that your comments refer to Docket No. SSA-2015-0003, so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2015-0003. The system will issue a tracking number to confirm your submission. You will not be able to view your comment immediately because we must post each comment manually. It may take up to a week for your comment to be viewable.

2. Fax: Fax comments to (410) 966-2830.

3. Mail: Address your comments to the Office of Regulations and Reports Clearance, Social Security Administration, 3100 West High Rise, 6401 Security Boulevard, Baltimore, Maryland 21235-6401.

Comments are available for public viewing on the Federal eRulemaking portal at http://www.regulations.gov or in person, during regular business hours, by arranging with the contact person identified below.

FOR FURTHER INFORMATION CONTACT: Pamela J. Carcirieri, Supervisory Government Information Specialist, SSA, Office of Privacy and Disclosure, 6401 Security Boulevard, Baltimore, Maryland 21235-6401, Phone: (410) 965-0355, for information about this rule. For information on eligibility or filing for benefits, call our national toll-free number, 1-800-772-1213 or TTY 1-800-325-0778, or visit our internet site, Social Security Online, at http://www.socialsecurity.gov.

SUPPLEMENTARY INFORMATION:

Background

In accordance with the Privacy Act (5 U.S.C. 552a), we are issuing public notice of our intent to establish a new system of records entitled, Social Security Administration Violence Evaluation and Reporting System (SSAvers) (60-0379). On April 18, 2012, President Obama issued the memorandum, Establishing Policies for Addressing Domestic Violence in the Federal Workforce, which directed the Office of Personnel Management to issue guidance to all departments and agencies to create policy that addressed domestic violence, sexual assault, and stalking. Because of this guidance, we developed the Workplace and Domestic Violence policy and program. We established SSAvers as part of this policy and program to record, review, investigate, and respond to allegations of workplace and domestic violence affecting our employees and contractors.

We are establishing SSAvers as part of our compliance efforts under Title VII of the Civil Rights Act of 1964; Congressional Accountability Act of 1995; 29 U.S.C. 51, Occupational Safety and Health Act of 1970; 29 CFR 1960, Basic Program Elements for Federal Employee Occupational Safety and Health Programs and Related Matters; 41 CFR 102-74, Subpart C, Conduct on Federal Property; 5 CFR 735, Employee Responsibilities and Conduct; 5 CFR 2635, Standards of Ethical Conduct for Employees of the Executive Branch; and various other statutes related to handling incidents of workplace and domestic violence.

SSAvers will capture and house information regarding alleged incidents of workplace and domestic violence filed by SSA employees and SSA contractors, and will allow SSA's Crisis Advisory Team (CAT) to review and respond to the reported allegations. Due to the investigatory nature of information that we will maintain in this system of records, we propose this rule to add SSAvers to the list of SSA systems that are exempt from specific provisions of the Privacy Act pursuant to 5 U.S.C. 552a(k)(2).

Rulemaking Analyses and Notices

We will consider all comments received on or before the close of business on the comment closing date previously indicated, and we will make the comments available for examination in the docket at the previously noted address. We will file comments received after the comment closing date in the docket, and we will consider them to the extent practicable. We may publish a final rule at any time after close of the comment period.

Clarity of This Rule

Executive Order 12866, as supplemented by Executive Order 13563, requires each agency to write all rules in plain language. In addition to your substantive comments on this interim final rule, we invite your comments on how to make the rule easier to understand.

For example:

• Would more, but shorter, sections be better?

• Are the requirements in the rule clearly stated?

• Have we organized the material to suit your needs?

• Could we improve clarity by adding tables, lists, or diagrams?

• What else could we do to make the rule easier to understand?

• Does the rule contain technical language or jargon that is not clear?

• Would a different format make the rule easier to understand, e.g. grouping and order of sections, use of headings, paragraphing?

Regulatory Procedures

SSA will publish a final rule responding to any comments received and, if appropriate, will amend provisions of the rule.

Executive Order 12866, as Supplemented by Executive Order 13563

We consulted with the Office of Management and Budget (OMB) and determined that this final rule does not meet the criteria for a significant regulatory action under Executive Order 12866, as supplemented by Executive Order 13563. Therefore, OMB did not review it.

We also determined that this final rule meets the plain language requirement of Executive Order 12866.

Executive Order 13132 (Federalism)

We analyzed this proposed rule in accordance with the principles and criteria established by Executive Order 13132, and we determined that the proposed rule will not have sufficient Federalism implications to warrant the preparation of a Federalism assessment. We also determined that this proposed rule will not preempt any State law or State regulation or affect the States' abilities to discharge traditional State governmental functions.

Executive Order 12372 (Intergovernmental Review)

The regulations effectuating Executive Order 12372 regarding intergovernmental consultation on Federal programs and activities apply to this proposed rule.

Regulatory Flexibility Act

We certify that this proposed rule will not have a significant economic impact on a substantial number of small entities because it affects individuals only. Therefore, the Regulatory Flexibility Act, as amended, does not require us to prepare a regulatory flexibility analysis.

Paperwork Reduction Act

These rules do not create any new or affect any existing collections and, therefore, do not require Office of Management and Budget approval under the Paperwork Reduction Act.

List of Subjects in 20 CFR Part 401

Administrative practice and procedure, Privacy.

Nancy Berryhill,
Acting Commissioner of Social Security.

For the reasons stated in the preamble, we are amending part 401 of title 20 of the Code of Federal Regulations as set forth below:

PART 401—PRIVACY AND DISCLOSURE OF OFFICIAL RECORDS AND INFORMATION

1. The authority citation for part 401 continues to read as follows:

Authority: Secs. 205, 702(a)(5), 1106, and 1141 of the Social Security Act (42 U.S.C. 405, 902(a)(5), 1306, and 1320b-11); 5 U.S.C. 552 and 552a; 8 U.S.C. 1360; 26 U.S.C. 6103; 30 U.S.C. 923.

2. Amend § 401.85, by adding paragraph (b)(2)(ii)(G) to read as follows:

* * * * *

(b) * * *

(2) * * *

(ii) * * *

(G) Social Security Administration Violence Evaluation and Reporting System, SSA.

* * * * *

[FR Doc. 2018-12819 Filed 6-13-18; 8:45 am]

BILLING CODE 4191-02-P